DEPARTMENT OF HEALTH AND HUMAN SERVICES

National Institutes of Health

National Cancer Institute; Notice of Meeting

Pursuant to section 10(a) of the Federal Advisory Committee Act, as amended (5 U.S.C. App.), notice is hereby given of a meeting of the National Cancer Institute Director's Consumer Liaison Group.

The meeting will be open to the public, with attendance limited to space available. Individuals who plan to attend and need special assistance, such as sign language interpretation or other reasonable accommodations, should notify the Contact Person listed below in advance of the meeting.

Name of Committee: National Cancer Institute Director's Consumer Liaison Group.

Date: July 27-29, 2010.

Time: 2 p.m. to 1 p.m.

Agenda: Welcome, Challenges in Biospecimen Collection; Expert Panel on Innovative Approaches to Engaging the Community around Biospecimen Collection, Board Discussion About Innovative Approaches to Engaging the Community around Biospecimen Collection.

Place: Jackson Federal Building, 915 Second Ave, Room 440, Seattle, WA 98174.

Contact Person: Benjamin Carollo, MPA, Advocacy Relations Manager, Office Of Advocacy Relations, Building 31, Room 10A30, 31 Center Drive, MSC 2580, National Cancer Institute, NIH, DHHS, Bethesda, MD 20892-2580, 301-496-0307, CAROLLOB@MAIL.NIH.GOV.

Information is also available on the Institute's/Center's home page: deainfo.nci.nih.gov/advisory/dclg/dclg.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: June 23, 2010.
Jennifer Spaeth,
Director, Office of Federal Advisory Committee Policy.

[FR Doc. 2010-15785 Filed 6-28-10; 8:45 am]

BILLING CODE 4140-01-P